DEPARTMENT OF DEFENSE

Department of the Navy

Notice of Intent To Grant Exclusive Patent License; Ionova Technologies, Inc.

AGENCY: Department of the Navy, DoD.

ACTION: Notice.

SUMMARY: The Department of the Navy hereby gives notice of its intent to grant to Ionova Technologies, Inc., a revocable, non-assignable, exclusive license in the field of electrode structures consisting of metal oxide coatings on porous carbon substrates for electrochemical capacitor devices in the United States and certain foreign countries, the Government-owned invention described in Navy Case No. 98,287: ELECTROLESS DEPOSITION OF NANOSCALE MANGANESE OXIDE ON ULTRAPOROUS CARBON NANOARCHITECTURES FOR ELECTROCHEMICAL CAPACITOR APPLICATIONS, and any continuations, divisionals, or re-issues thereof.

DATES: Anyone wishing to object to the grant of this License must file written objections along with supporting evidence, if any, not later than February 20, 2007.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone 202-767-3083. Due to U.S. Postal delays, please fax 202-404-7920, e-mail: rita.manak@nrl.navy.mil or use courier delivery to expedite response.

(Authority: 35 U.S.C. 207, 37 CFR Part 404.)

Dated: January 29, 2007.
M.A. Harvison,
Lieutenant Commander, Judge Advocate General's Corps, U.S. Navy, Federal Register Liaison Officer.

[FR Doc. E7-1788 Filed 2-2-07; 8:45 am]

BILLING CODE 3810-FF-P